DEPARTMENT OF HOMELAND SECURITY

Coast Guard

[Docket No. USCG-2011-1103]

Merchant Marine Personnel Advisory Committee; Vacancies

AGENCY: Coast Guard, DHS.

ACTION: Request for applications.

SUMMARY: The Coast Guard seeks applications for membership on the Merchant Marine Personnel Advisory Committee (MERPAC). This Committee advises the Secretary of the Department of Homeland Security on matters related to personnel in the U.S. merchant marine, including but not limited to training, qualifications, certification, documentation, and fitness standards.

DATES: Applicants should submit a cover letter and resume in time to reach the Alternate Designated Federal Officer (ADFO) on or before February 6, 2012.

ADDRESSES: Applicants should send their cover letter and resume to the following address: Commandant (CG-5221), Attn MERPAC, U.S. Coast Guard, 2100 2nd St. SW., Stop 7126, Washington DC 20593-7126; or by calling (202) 372-1408; or by faxing (202) 372-1926; or by emailing to rogers.w.henderson@uscg.mil. This notice is available in our online docket, USCG-2011-1103, at http://www.regulations.gov.

FOR FURTHER INFORMATION CONTACT: Rogers W. Henderson, ADFO of MERPAC; telephone (202) 372-1408 or email at rogers.w.henderson@uscg.mil.

SUPPLEMENTARY INFORMATION: MERPAC is a Federal advisory committee established under the authority of section 871 of The Homeland Security Act of 2002, Title 6, United States Code, section 451. This committee is established in accordance with and operates under the provisions of the Federal Advisory Committee Act (FACA) (Title 5, United States Code, Appendix). MERPAC advises the Secretary of the Department of Homeland Security on matters relating to personnel in the U.S. merchant marine, including but not limited to training, qualifications, certification, documentation, and fitness standards. The Committee will advise, consult with, and make recommendations reflecting its independent judgment to the Secretary.

MERPAC is expected to meet approximately twice a year as called for by its charter, once at or near Coast Guard Headquarters, Washington, DC, and once elsewhere in the country. It may also meet for extraordinary purposes. Its subcommittees and working groups may also meet to consider specific tasks as required.

We will consider applications for six positions that expire or become vacant on June 1, 2012. To be eligible, you should have experience in the following areas of expertise: One member for marine educators representing the viewpoint of State Maritime Academies; one member for marine educators representing the viewpoint of the small vessel industry in maritime training institutions other than state or Federal Maritime Academies; one member for a licensed chief engineering officer authorized to serve on vessels of any horsepower; two members for licensed deck officers; and one member who will represent the general public.

If you are selected as a member who represents the general public, you will be appointed and serve as a Special Government Employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or his or her designee may release a Confidential Financial Disclosure Report.

Registered lobbyists are not eligible to serve on federal advisory committees. Registered lobbyists are lobbyists required to comply with provisions contained in the Lobbying Disclosure Act of 1995 (Pub. L. 104-65 as amended).

Each MERPAC committee member serves a term of office of up to three years. Members may be considered to serve consecutive terms. All members serve without compensation from the Federal Government; however, upon request, they do receive travel reimbursement and per diem.

In support of the Coast Guard policy on gender and ethnic nondiscrimination, we encourage qualified men and women of all racial and ethnic groups to apply. The Coast Guard values diversity; all the different characteristics and attributes of persons that enhance the mission of the Coast Guard.

If you are interested in applying to become a member of the Committee, send your cover letter and resume to Rogers W. Henderson, ADFO of MERPAC at Commandant (CG-5221), Attn MERPAC, U.S. Coast Guard, 2100 2nd St SW Stop 7126, Washington DC 20593-7126. Send your cover letter and resume in time for it to be received by the ADFO on or before February 6, 2012.

To visit our online docket, go to http://www.regulations.gov, enter the docket number for this notice (USCG-2011-1103) in the Search box, and click “Go”. Please do not post your resume on this site.

Dated: November 30, 2011.
F.J. Sturm,
Acting Director of Commercial Regulations and Standards, U.S. Coast Guard.

[FR Doc. 2011-31333 Filed 12-6-11; 8:45 am]

BILLING CODE 9110-04-P